DEPARTMENT OF AGRICULTURE

Animal and Plant Health Inspection Service

[Docket No. APHIS-2006-0047]

Bovine Spongiform Encephalopathy; Availability of an Estimate of Prevalence in the United States

AGENCY: Animal and Plant Health Inspection Service, USDA.

ACTION: Notice of availability.

SUMMARY: We are advising the public that an analysis of the prevalence of bovine spongiform encephalopathy (BSE) in the United States has been prepared by the Animal and Plant Health Inspection Service. We are making the analysis of BSE prevalence in this country available to the public.

ADDRESSES: Copies of the analysis are available for review on the Internet (see SUPPLEMENTARY INFORMATION below) and in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Brian McCluskey, National Surveillance Coordinator, National Surveillance Unit, Center for Animal Health Surveillance, VS, APHIS, USDA, 2150 Centre Avenue, Fort Collins, CO 80526-8177; 970-494-7589.

SUPPLEMENTARY INFORMATION: Bovine spongiform encephalopathy (BSE) is a progressive and fatal neurological disorder of cattle that results from an unconventional transmissible agent. BSE belongs to the family of diseases known as transmissible spongiform encephalopathies (TSEs). Since 1990, the United States has conducted surveillance for BSE in this country with increasing intensity, including an enhanced surveillance effort implemented following the diagnosis of BSE in a cow of Canadian origin in Washington State in December 2003.

The Animal and Plant Health Inspection Service (APHIS) has conducted an analysis of the BSE surveillance data collected in the United States. Based on this analysis, APHIS has arrived at an estimate of BSE prevalence in this country. This information will help to guide and support any future requests for consideration of the overall BSE status of the United States.

We are making our analysis of BSE prevalence in the United States available to the public. This report is considered a draft and will undergo peer review.

The analysis may be viewed on the APHIS Web site at http://www.aphis.usda.gov/newsroom/hot_issues/bse/bse_in_usa.shtml. Click on the document titled “An Estimate of the Prevalence of BSE in the United States.” The analysis may be also viewed on the Regulations.gov Web site. Go to http://www.regulations.gov, click on the “Advanced Search” tab and select “Docket Search.” In the Docket ID field, enter APHIS-2006-0047, click on “Submit,” then click on the Docket ID link in the search results page. The analysis will appear in the resulting list of documents.

You may request paper copies of the analysis by calling or writing to the person listed under FOR FURTHER INFORMATION CONTACT. Please refer to the title of the analysis (“An Estimate of the Prevalence of BSE in the United States”) when requesting copies. The analysis is also available for review in our reading room (information on the location and hours of the reading room is provided under the heading ADDRESSES at the beginning of this notice).

Done in Washington, DC, this 1st day of May 2006.
Elizabeth E. Gaston,
Acting Administrator, Animal and Plant Health Inspection Service.

[FR Doc. E6-6728 Filed 5-2-06; 8:45 am]

BILLING CODE 3410-34-P —